DEPARTMENT OF VETERANS AFFAIRS

Joint Biomedical Laboratory Research and Development and Clinical Science Research and Development Services Scientific Merit Review Board, AMENDED Notice of Meetings

The Department of Veterans Affairs (VA) gives notice under Federal Advisory Committee Act that the subcommittees of the Joint Biomedical Laboratory Research and Development and Clinical Science Research and Development Services Scientific Merit Review Board (JBL/CS SMRB) will be held on the dates below from 8:00 a.m. to 5:00 p.m. (unless otherwise listed) at the 20 F Conference Center, 20 F Street NW, Washington, DC 20001, the Phoenix Park Hotel, 520 North Capitol Street NW, Washington, DC 20001, and at the Office of Research and Development, 1100 First Street NE, Washington, DC 20002:

Meeting | Date(s)
BL/CS R&D Surgery Subcommittee | November 12, 2019.
BL/CS R&D Pulmonary Medicine Subcommittee | November 13, 2019.
BL/CS R&D Infectious Diseases-B Subcommittee | November 14, 2019.
BL/CS R&D Oncology-A/D Subcommittee | November 14, 2019.
BL/CS R&D Hematology Subcommittee | November 15, 2019.
BL/CS R&D Oncology-C Subcommittee | November 15, 2019.
BL/CS R&D Cellular & Molecular Medicine Subcommittee | November 18, 2019.
BL/CS R&D Oncology-B/E Subcommittee | November 18, 2019.
BL/CS R&D Mental Health & Behavioral Sciences-P | November 19, 2019.
BL/CS R&D Immunology & Dermatology-A Subcommittee | November 20, 2019.
BL/CS R&D Mental Health & Behavioral Sciences-C Subcommittee | November 20, 2019.
BL/CS R&D Cardiovascular Studies-A Subcommittee | November 21, 2019.
BL/CS R&D Endocrinology-A Subcommittee | November 21, 2019.
BL/CS R&D Neurobiology-C Subcommittee | November 21, 2019.
BL/CS R&D Neurobiology-E Subcommittee | November 22, 2019.
BL/CS R&D Endocrinology-B Subcommittee | November 25, 2019.
BL/CS R&D Mental Health & Behavioral Sciences-A Subcommittee | December 3, 2019.
BL/CS R&D Nephrology Subcommittee | December 3, 2019.
BL/CS R&D Neurobiology-B Subcommittee | December 3, 2019.
BL/CS R&D Infectious Diseases-A Subcommittee | December 4, 2019.
BL/CS R&D Neurobiology-F Subcommittee | December 4, 2019.
BL/CS R&D Cardiovascular Studies-B Subcommittee | December 5, 2019.
BL/CS R&D Gastroenterology Subcommittee | December 5, 2019.
BL/CS R&D Neurobiology-P Subcommittee | December 5, 2019.
BL/CS R&D Neurobiology-R Subcommittee | December 5, 2019.
BL/CS R&D Neurobiology-A Subcommittee | December 6, 2019.
BL/CS R&D Neurobiology-D Subcommittee | December 6, 2019.
BL/CS R&D Gulf War Research Subcommittee | December 6, 2019.
BL/CS R&D VA Psychiatrist Development Award Subcommittee | January 8, 2020.
Joint Biomedical Laboratory Research and Development and Clinical Science Research and Development Services Scientific Merit Review Board | January 8, 2020.
BL/CS R&D Eligibility Subcommittee | January 17, 2020.

The purpose of the subcommittees is to provide advice on the scientific quality, budget, safety and mission relevance of investigator-initiated research proposals submitted for VA merit review evaluation. Proposals submitted for review include various medical specialties within the general areas of biomedical, behavioral and clinical science research.

The subcommittee meetings will be closed to the public for the review, discussion, and evaluation of initial and renewal research proposals. However, the JBL/CS SMRB teleconference meeting will be open to the public. Members of the public who wish to attend the open JBL/CS SMRB teleconference may dial 1-800-767-1750, participant code 50064#. Members of the public who wish to make a statement at the JBL/CS SMRB meeting must notify Dr. Holly Krull via email at holly.krull@va.gov by January 6, 2020.

These subcommittee meetings will be closed to the public for the review, discussion, and evaluation of initial and renewal research proposals, which involve reference to staff and consultant critiques of research proposals. Discussions will deal with scientific merit of each proposal and qualifications of personnel conducting the studies, the disclosure of which would constitute a clearly unwarranted invasion of personal privacy. Additionally, premature disclosure of research information could significantly obstruct implementation of proposed agency action regarding the research proposals. As provided by subsection 10(d) of Public Law 92-463, as amended by Public Law 94-409, closing the subcommittee meetings is in accordance with Title 5 U.S.C. 552b(c)(6) and (9)(B).

Those who would like to obtain a copy of the minutes from the closed subcommittee meetings and rosters of the subcommittee members should contact Holly Krull, Ph.D., Manager, Merit Review Program (10X2B), Department of Veterans Affairs, 810 Vermont Avenue NW, Washington, DC 20420, at (202) 632-8522 or email at holly.krull@va.gov.

Dated: December 27, 2019.
Jelessa M. Burney,
Federal Advisory Committee Management Officer.

[FR Doc. 2019-28282 Filed 12-31-19; 8:45 am]

BILLING CODE P